DEPARTMENT OF ENERGY

Federal Energy Regulatory Commission

[Docket Nos. ER03-167-000, et al.]

The Empire District Electric Company, et al.; Electric Rate and Corporate Filings

May 14, 2003.

The following filings have been made with the Commission. The filings are listed in ascending order within each docket classification:

1. The Empire District Electric Company

[Docket No. ER03-167-001]

Take notice that on May 12, 2003, pursuant to the January 10, 2003 Letter Order in Docket No. ER03-167-000, The Empire District Electric Company submitted for filing a version of the Attachment A Form of Service Agreement for Ancillary Services that includes designations as required by Order No. 614.

Comment Date: June 2, 2003.

2. Illinois Power Company

[Docket No. ER03-249-003]

Take notice that on May 12, 2003, Illinois Power Company (Illinois Power) filed an unexecuted First Revised Interconnection and Operating Agreement with Franklin County Power of Illinois, LLC. Illinois Power states that the purpose of the filing is to comply with the Commission's Order issued on April 10, 2003, “Order Conditionally Accepting Interconnection and Operating Agreement for Filing” in Docket No. ER03-249-000 and ER03-249-001.

Illinois Power requests an effective date of November 17, 2002 for the Agreement. Illinois Power states that it has served a copy of the filing on Franklin County Power of Illinois, LLC and each person designated on the official service list.

Comment Date: June 2, 2003.

3. Entergy Services, Inc.

[Docket Nos. ER03-583-001, ER03-681-001, ER03-682-002 and ER03-744-001]

Take notice that on May 12, 2003, Entergy Services, Inc.(ESI),as supplemented on May 14, 2003, on behalf of the Entergy Operating Companies, filed information as directed by the May 2, 2003 letter order issued by the Director, Division of Tariffs and Market Development—South in the above-referenced proceedings.

ESI states that copies of this filing were served on the affected state utility commissions, and on each person designated on the official service list compiled by the Secretary in the above-referenced proceedings.

Comment Date: May 23, 2003.

4. New York Independent System Operator, Inc.

[Docket No. ER03-836-000]

Take notice that on May 9, 2003, the New York Independent System Operator, Inc. (NYISO), filed proposed revisions to the NYISO's Market Administration and Control Area Services Tariff (Services Tariff). NYISO states that the proposed revisions would remove the current bid cap on 10-minute non-spinning reserves, and make certain related changes in the Services Tariff. The NYISO has requested that the Commission make the filing effective on July 8, 2003.

The NYISO states it has mailed a copy of the filing to all parties that have executed Service Agreements under the NYISO's Open-Access Transmission Tariff or Services Tariff, to the New York State Public Service Commission and to the electric utility regulatory agencies in New Jersey and Pennsylvania.

Comment Date: May 30, 2003.

5. Avista Corporation

[Docket No. ER03-837-000

Take notice that on May 9, 2003, Avista Corporation (Avista) submitted a Notice of Cancellation of Rate Schedule No. 263 which is a netting agreement with Mirant Americas Energy Marketing, LP, (formerly Southern Company Energy Marketing, LP). Rate Schedule No. 263. Avista seeks all waivers necessary to allow the cancellation to be effective as of April 30, 2003.

Avista states that copies of the filing has been provided to Mirant Americas Energy Marketing, LP.

Comment Date: May 30, 2003.

6. Power Contract Financing, L.L.C.

[Docket No. ER03-838-000]

Take notice that on May 9, 2003, Power Contract Financing, L.L.C., filed a Notice of Succession to adopt CES Marketing, LLC's market-based rate authorizations.Comment Date: May 30, 2003.

7. Carolina Power & Light Company

[Docket No. ER03-839-000]

Take notice that on May 9, 2003, Carolina Power & Light Company, d/b/a Progress Energy Carolinas, Inc. (CP&L) amended a Power Supply Agreement dated November 2, 1998, between North Carolina Electric Membership Corporation (NCEMC) and CP&L, Rate Schedule FERC No. 134. CP&L respectfully requests waiver of the Commission's notice of filing requirements to allow the amendment to become effective on January 1, 2001.

CP&L states that copies of the filing were served upon NCEMC, the North Carolina Utilities Commission and the South Carolina Public Service Commission.

Comment Date: May 30, 2003.

8. El Paso Electric Company, Public Service Company of New Mexico, Texas-New Mexico Power Company

[Docket No. ER03-840-000]

Take notice that on May 9, 2003, El Paso Electric Company, Public Service Company of New Mexico, and Texas-New Mexico Power Company (collectively, Utilities) jointly tendered for filing under their respective Open Access Transmission Tariffs First Revised Interconnection Agreement (Agreement) between the Utilities and Duke Energy Luna, LLC. The Utilities seek an effective date for the Agreement of April 30, 2003.

Comment Date: May 30, 2003.

9. Duke Energy Power Marketing, LLC

[Docket No. ER03-841-000]

Take notice that on May 12, 2003, Duke Energy Power Marketing, LLC (DEPM) filed revisions to its FERC Electric Tariff, Original Volume No. 1 (Tariff), specifically (1) enumerating ancillary service products sold into the ancillary service markets operated by independent system operators, (2) providing for the resale of firm transmission rights and other similar congestion contracts, and (3) reflecting the Commission's current language preferences with respect to (a) use of an Internet site with respect to the provision of certain ancillary services and (b) obtaining Commission approval for certain affiliate transactions. No other changes were made to the Tariff, which was accepted for filing by the Commission in Docket No. ER01-1129-000.

Comment Date: June 2, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-12824 Filed 5-21-03; 8:45 am]

BILLING CODE 6717-01-P